DEPARTMENT OF COMMERCE

National Oceanic and Atmospheric Administration

RIN 0648-XG360

Marine Mammals; File No. 20648

AGENCY: National Marine Fisheries Service (NMFS), National Oceanic and Atmospheric Administration (NOAA), Commerce.

ACTION: Notice; receipt of application.

SUMMARY: Notice is hereby given that Heidi Pearson, Ph.D., University of Alaska—Southeast, 11120 Glacier Hwy., AND1, Juneau, AK 99801, has applied in due form for a permit to conduct scientific research on marine mammals in southern Alaskan waters.

DATES: Written, telefaxed, or email comments must be received on or before November 1, 2018.

ADDRESSES: The application and related documents are available for review by selecting “Records Open for Public Comment” from the “Features” box on the Applications and Permits for Protected Species (APPS) home page, https://apps.nmfs.noaa.gov, and then selecting File No. 20648 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a five-year permit to conduct research that would assess the behavior, ecology, and movement patterns of cetaceans in the Gulf of Alaska with a focus on Southeast Alaska, particularly waters around Juneau. Fin (Balaenoptera physalus), humpback (Megaptera novaeangliae; range-wide including those from the endangered Mexico Distinct Population Segment), gray (Eschrichtius robustus), killer (Orcinus orca); minke (Balaenoptera acutorostrata), and sperm (Physeter macrocephalus) whales, Dall's (Hocoenoides dalli) and harbor porpoises (Phocoena phocoena), and Pacific white-sided dolphins (Lagenorhynchus obliquidens) will be taken during vessel and unmanned aerial surveys. Researchers will use the following methods on all or some of the above listed species: Observation, photographic identification, photogrammetry, passive acoustic recording, tagging (suction-cup), remote biopsy and other biological sampling (breath/exhaled air, fecal, swabbed and sloughed skin). Humpback and killer whales may be remote biopsy sampled. Acoustic disturbance from sonar for prey mapping may also occur. Steller sea lions (Eumetopias jubatus; Eastern and Western Distinct Population Segments) and harbor seals may be incidentally harassed during research activities.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 26, 2018.
Julia Marie Harrison,
Chief, Permits and Conservation Division, Office of Protected Resources, National Marine Fisheries Service.

[FR Doc. 2018-21339 Filed 10-1-18; 8:45 am]

BILLING CODE 3510-22-P